DEPARTMENT OF THE INTERIOR

Fish and Wildlife Service

Endangered Species Permit Applications

AGENCY: Fish and Wildlife Service, Interior.

ACTION: Notice of receipt of permit applications.

SUMMARY: The following applicants have applied for a scientific research permit to conduct certain activities with endangered species pursuant to section 10(a)(1)(A) of the Endangered Species Act of 1973, as amended (16 USC 1531 et seq.).

Permit No. TE-036501

Applicant: U.S. Geological Survey, Piedras Blancas Field Station, San Simeon, California

The applicant requests a permit to take (capture, handle, tag, attach radio transmitters, and release) the giant kangaroo rat (Dipodomys ingens) throughout the species' range in conjunction with scientific research for the purpose of enhancing its survival. These activities were previously authorized under subpermit No. BRDPBS-2.

Permit No. TE-039161

Applicant: Lara Tikkanen Reising, San Diego, California

The applicant requests a permit to take (harass by survey, collect and sacrifice) the San Diego fairy shrimp (Branchinecta sandiegonensis) and the Riverside fairy shrimp (Streptocephalus wootoni), and take (survey by pursuit) the Quino checkerspot butterfly (Euphydryas editha quino) in conjunction with surveys throughout the species' range in California for the purpose of enhancing their survival.

Permit No. TE-039305

Applicant: Michael Klein, Sr., San Diego, California

The applicant requests a permit to take (survey by pursuit) the Laguna Mountain skipper (Pyrgus ruralis lagunae) in conjunction with surveys throughout the species' range in California for the purpose of enhancing its survival.

Permit No. TE-039282

Applicant: Richard B. Lewis, Costa Mesa, California

The applicant requests a permit to take (harass by survey and monitor nests) the southwestern willow flycatcher (Empidonax traillii extimus) in conjunction with surveys in Los Angeles, Orange, San Bernardino, Riverside, San Diego, and Ventura, California for the purpose of enhancing its survival.

Permit No. TE-027295

Applicant: Ecosphere Environmental Services, Durango, Colorado

The applicant requests a permit to take (harass by survey) the southwestern willow flycatcher (Empidonax traillii extimus) in conjunction with surveys throughout the state of California for the purpose of enhancing its survival.

Permit No. TE-039463

Applicant: John Gallo, Goleta, California

The applicant requests a permit to take (harass by survey and monitor nests) the southwestern willow flycatcher (Empidonax traillii extimus) and take (monitor nests) the least Bell's vireo (Vireo bellii pusillus) in conjunction with surveys and population monitoring in Santa Barbara and Ventura Counties, California for the purpose of enhancing its survival.

Permit No. TE-039201; TE-802457; TE-039289; TE-039300

Applicants: Pamela Marie Wright, Topanga, California; Donald Sutton, Encinitas, California; Kari Roesch, Carlsbad, California; Michael Ferrell, Carlsbad, California

These applicants request a permit to take (survey by pursuit) the Quino checkerspot butterfly (Euphydryas editha quino) in conjunction with surveys throughout the species' range in California for the purpose of enhancing its survival.

Permit No. TE-039800

Applicant: Kathy S. Williams, San Diego, California

The applicant requests a permit to take (survey by pursuit) the Laguna Mountains Skipper (Pyrgus ruralis lagunae) in conjunction with surveys throughout the species' range in California for the purpose of enhancing its survival.

Permit No. TE-039460

Applicant: Thomas Olsen, Lompac, California

The applicant requests a permit to take (capture and handle; collect tissue samples) the California tiger salamander (Ambystoma californiense) in conjunction with presence or absence surveys and genetic research in Santa Barbara County, California for the purpose of enhancing its survival.

Permit No. TE-039313

Applicant: Theodore Kennedy, Saint Paul, Minnesota

The applicant requests a permit to take (capture, handle, mark, and release) the Ash Meadows speckled dace (Rhinichthys osculus nevadensis) and Ash Meadows Amargosa pupfish (Cyprinodon nevadensis mioectes) in conjunction with scientific research at the Ash Meadows National Wildlife Refuge in Nye County, Nevada for the purpose of enhancing their survival.

Permit No. TE-018172

Applicant: Allan A. Schoenherr, Fullerton, California

The applicant requests a permit to take (capture, handle, and release) the desert pupfish (Cyprinodon macularius) in conjunction with presence and absence surveys in Imperial and Riverside Counties, California for the purpose of enhancing its survival. These activities were previously authorized under subpermit SCHOAA-5.

Permit No. TE-026654

Applicant: The Nature Conservancy, Klamath Falls, Oregon

The applicant requests a permit to take (capture, handle, and release; collect larvae) the Lost River sucker (Deltistes luxatus) and the shortnose sucker (Chasmistes brevirostrum) in conjunction with the collection of fish distribution and condition information to gauge the success of restoration efforts in Klamath County, Oregon for the purpose of enhancing their survival.

Permit No. TE-039877

Applicant: Chris Hayes, Concord, California

The applicant requests a permit to purchase, in interstate commerce, one female and one male captive bred Hawaiian (=nene) goose (Nesochen [=Branta] sandvicensis) for the purpose of enhancing the species propagation and survival. This notification covers activities conducted by the applicant over the next 5 years.

DATES: Written comments on these permit applications must be received on or before April 27, 2001.

ADDRESSES: Written data or comments should be submitted to the Chief, Endangered Species, Ecological Services, Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: March 14, 2001.
Rowan W. Gould,
Acting Regional Director, Region 1, Portland, Oregon.

[FR Doc. 01-7605 Filed 3-27-01; 8:45 am]

BILLING CODE 4310-55-P